DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

These modified elevations are used to meet the floodplain management requirements of the NFIP and are also used to calculate the appropriate flood insurance premium rates for new buildings built after these elevations are made final, and for the contents in these buildings.

The changes in BFEs are in accordance with 44 CFR 65.4. National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Delaware: New Castle (FEMA Docket No. D-7549) | Unincorporated Areas | Nov. 10, 2003, Nov. 17, 2003 The News Journal | Mr. Thomas P. Gordon, New Castle County Executive, New Castle County Government Center, 87 Reads Way, New Castle, Delaware 19720 | Oct. 30, 2003 | 105085 G
Florida: Orange (FEMA Docket No. D-7549) | Unincorporated Areas | Nov. 5, 2003, Nov. 12, 2003, Orlando Sentinel | M. Krishnamurthy, Ph.D., P.E., Orange County Stormwater Management Manager, 4200 South John Young Parkway, Orlando, Florida 32839 | Feb. 11, 2004 | 120179 E
Kentucky:
Jefferson (FEMA Docket No. D-7549) | Unincorporated Areas | Oct. 27, 2003, Nov. 3, 2003, The Courier-Journal | The Honorable Jerry Abramson, Mayor of Metro Louisville/Jefferson County, 527 West Jefferson Street, Suite 400, Louisville, Kentucky 40202 | Oct. 17, 203 | 210120 D
(FEMA Docket No. D-7549) | Lexington-Fayette Urban County Government | Oct. 10, 2003, Oct. 17, 2003, Lexington Herald-Leader | The Honorable Teresa Isaac, Mayor of the Lexington-Fayette, Urban County Government, 200 East Main Street, 12th Floor, Lexington, Kentucky 40507 | Jan. 16, 2004 | 210067 C
Pike (FEMA Docket No. D-7549) | Unincorporated Areas | Nov. 5, 2003, Nov. 12, 2003, Appalachian News-Express | The Honorable William M. Deskins, Pike County Judge/Executive, Pike County Courthouse, 146 Main Street, Pikeville, Kentucky 41501 | Oct. 29, 2003 | 210298 F
Mississippi:
Hinds, Rankin, and Madison (FEMA Docket No. D-7549) | City of Jackson | Oct. 7, 2003, Oct. 14, 2003, The Clarion-Ledger | The Honorable Harvey Johnson, Jr., Mayor of the City of Jackson, P.O. Box 17, 219 South President Street, Jackson, Mississippi 39205-0017 | Jan. 13, 2004 | 280072 F,G
Madison (FEMA Docket No. D-7549) | Unincorporated Areas | Oct. 7, 2003, Oct. 14, 2003, The Clarion-Ledger | Mr. David H. Richardson, President of the Madison County Board of Supervisors, P.O. Box 608, 146 West Center Street, Canton, Mississippi 39046 | Jan. 13, 2004 | 280228 D
Madison (FEMA Docket No. D-7549) | City of Ridgeland | Oct. 7, 2003, Oct. 14, 2003, The Clarion-Ledger | The Honorable Gene F. McGee, Mayor of the City of Ridgeland, P.O. Box 217, Ridgeland, Mississippi 39158 | Jan. 13, 2004 | 280110 D
Madison (FEMA Docket No. D-7549) | City of Ridgeland | Oct. 13, 2003, Oct. 20, 2003, The Clarion-Ledger | The Honorable Gene F. McGee, Mayor of the City of Ridgeland, P.O. Box 217, Ridgeland, Mississippi 39158 | Oct. 6, 2003 | 280110 D
North Carolina: Durham (FEMA Docket No. D-7549) | City of Durham | Oct. 21, 2003, Oct. 28, 2003, The Herald-Sun | The Honorable William V. Bell, Mayor of the City of Durham, 101 City Hall Plaza, Durham, North Carolina 27701 | Jan. 27, 2004 | 370086 G
Puerto Rico (FEMA Docket No. D-7549) | Commonwealth | Nov. 7, 2003, Nov. 14, 2003, The San Juan Star | The Honorable Sila M. Calderon, Governor of the Commonwealth of Puerto Rico, Office of the Governor, P.O. Box 9020082, San Juan, Puerto Rico 00902-0082 | Feb. 13, 2004 | 720000 C
South Carolina:
Charleston (FEMA Docket No. D-7547) | City of Charleston | Sept. 15, 2003, Sept. 22, 2003, Post and Courier | The Honorable Joseph P. Riley, Jr., Mayor of the City of Charleston, P.O. Box 652, Charleston, South Carolina 29401 | Dec. 22, 2003 | 455412 G
Charleston (FEMA Docket No. D-7549) | City of Isle of Palms | Nov. 6, 2003, Nov. 13, 2003, Post and Courier | The Honorable F. Michael Sottile, Mayor of the City of Isle of Palms, P.O. Box 508, Isle of Palms, South Carolina 29451 | Oct. 30, 2003 | 455416 E
Virginia:
Dickenson (FEMA Docket No. D-7547) | Unincorporated Areas | Oct. 1, 2003, Oct. 8, 2003, The Dickenson Star | Mr. Keith L. Viers, Dickenson County Administrator, Administrative Office, P.O. Box 1098, Clintwood, Virginia 24228 | Jan. 7, 2003 | 510253 C
Russell (FEMA Docket No. D-7547) | Unincorporated Areas | Oct. 1, 2003, Oct. 8, 2003, Lebanon News | Mr. Frank Horton, Chairman of the Russell County Board of Supervisors, P.O. Box 1208, Lebanon, Virginia 24266 | Jan. 7, 2003 | 510317 B

(Catalog of Federal Domestic Assistance No. 83.100, “Flood Insurance”)
Dated: May 26, 2004.
Anthony S. Lowe,
Mitigation Division Director, Emergency Preparedness and Response Directorate.

[FR Doc. 04-12372 Filed 6-1-04; 8:45 am]

BILLING CODE 9110-12-P